DEPARTMENT OF JUSTICE

Notice of Lodging of Proposed Consent Decree Under the Comprehensive Environmental Response, Compensation, and Liability Act

On January 22, 2014, the Department of Justice lodged a proposed consent decree with the United States District Court for the Middle District of Georgia in the lawsuit entitled United States of America v. Wynn E. Housel., Civil Action No. 3:11-cv-53(CAR), regarding the removal action at the Cannon Drive Drum Superfund Site located at 148 Cannon Drive, Social Circle, Georgia (Site).

In the complaint, the United States, on behalf of the Environmental Protection Agency (EPA), asserts that Wynn Housel purchased hazardous substances, including resins, adhesives, cleaning solvents, paint thinners and corrosives, from the Defense Logistics Agency of the Department of Defense and brought them to the Site where he stored and ultimately abandoned them. The United States asserts a claim under Section 107(a) of the Comprehensive Environmental Response, Compensation, and Liability Act (CERCLA), 42 U.S.C. 9607(a), to recover EPA's past removal costs, approximately $1.3 million, with respect to the Site. Based on his financial status, reviewed by a qualified financial analyst, the consent decree recognizes Mr. Housel lacks the ability to pay response costs and does not include recovery of any past costs from him. The consent decree bars Mr. Housel from purchasing excess property of the United States.

The publication of this notice opens a period for public comment on the consent decree. Comments should be addressed to the Assistant Attorney General, Environment and Natural Resources Division, and should refer to United States v. Wynn E. Housel., D.J. Ref. No. 90-11-3-09698. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to:

Consent Decree Library, U.S. DOJ—ENRD, P.O. Box 7611, Washington, DC 20044-7611.

Please enclose a check or money order for $5.25 (25 cents per page reproduction cost) payable to the United States Treasury.

Henry S. Friedman,
Assistant Section Chief, Environmental Enforcement Section, Environment and Natural Resources Division.

[FR Doc. 2014-01561 Filed 1-27-14; 8:45 am]

BILLING CODE 4410-15-P